DEPARTMENT OF THE INTERIOR

Bureau of Land Management

[LLORW00000.L16100000.DF0000.17XL1109AF.HAG17-0156]

Notice of Public Meeting for the San Juan Islands National Monument Advisory Committee

AGENCY: Bureau of Land Management, Interior.

ACTION: Notice of public meeting.

SUMMARY: In accordance with the Federal Land Policy and Management Act of 1976 and the Federal Advisory Committee Act of 1972, the U.S. Department of the Interior, Bureau of Land Management's (BLM), San Juan Islands National Monument Advisory Committee (MAC) will meet as indicated below:

DATES: The MAC will hold a public meeting on Thursday, October 19, 2017. The meeting will be held from 8:30 a.m. to 3:30 p.m. Pacific Daylight Time. A public comment period will be available from 1:45 until 2:30 p.m.

ADDRESSES: The meeting will be held at the Friday Harbor Grange, 152 First Street, Friday Harbor, WA 98250.

FOR FURTHER INFORMATION CONTACT: Marcia deChadenèdes, San Juan Islands National Monument Manager, P.O. Box 3, Lopez Island, WA 98261; 360-468-3051; mdechade@blm.gov. Persons who use a telecommunications device for the deaf (TDD) may call the Federal Relay Service at 1 (800) 877-8339 to contact the above individual during normal business hours. The FRS is available 24 hours a day, 7 days a week, to leave a message or question with the above individual. You will receive a reply during normal business hours.

SUPPLEMENTARY INFORMATION: The 12-member MAC was appointed by the Secretary of the Interior to provide information and advice regarding the development of the San Juan Islands National Monument's Resource Management Plan (RMP). Members represent an array of stakeholder interests in the land and resources from within the local area. All advisory committee meetings are open to the public. Agenda items include the potential impacts of the RMP's alternatives to recreation, vegetation communities, cultural resources and wildlife. Potential impacts to socioeconomics, tribal interests, and lands with wilderness characteristics will also be discussed.

At 1:45 p.m. members of the public will have the opportunity to make comments to the MAC during a public comment period. Persons wishing to make comments during the public comment period should register in person with the BLM by 1 p.m. on the meeting day, at the meeting location. Depending on the number of persons wishing to comment, the length of comments may be limited. The public may send written comments to the MAC at San Juan Islands National Monument, Attn. MAC, P.O. Box 3, Lopez Island, WA 98261. The BLM appreciates all comments. Before including your address, phone number, email address, or other personal identifying information in your comments, please be aware that your entire comment-including your personal identifying information-may be made publicly available at any time. While you can ask us in your comment to withhold your personal identifying information from public review, we cannot guarantee that we will be able to do so.

Authority: 43 CFR 1784.4-2.

Linda Clark,
Spokane District Manager.

[FR Doc. 2017-20147 Filed 9-20-17; 8:45 am]

BILLING CODE 4310-33-P